DEPARTMENT OF ENERGY

Federal Energy Regulatory Commission

Combined Notice of Filings #1

Take notice that the Commission received the following electric corporate filings:

Docket Numbers: EC19-118-000.

Applicants: Public Service Company of Colorado, Manchief Power Company LLC.

Description: Joint Application for Authorization Under Section 203 of the Federal Power Act, et al. of Public Service Company of Colorado, et al.

Filed Date: 8/9/19.

Accession Number: 20190809-5164.

Comments Due: 5 p.m. ET 8/30/19.

Take notice that the Commission received the following exempt wholesale generator filings:

Docket Numbers: EG19-160-000.

Applicants: E.ON Climate & Renewables North America.

Description: Notice of Self-Certification of Exempt Wholesale Generator Status of West of the Pecos Solar, LLC.

Filed Date: 8/9/19.

Accession Number: 20190809-5159.

Comments Due: 5 p.m. ET 8/30/19.

Docket Numbers: EG19-161-000.

Applicants: Whitney Hill Wind Power, LLC.

Description: Self-Certification of EG or FC of Whitney Hill Wind Power, LLC.

Filed Date: 8/12/19.

Accession Number: 20190812-5055.

Comments Due: 5 p.m. ET 9/3/19.

Take notice that the Commission received the following electric rate filings:

Docket Numbers: ER19-2312-000.

Applicants: ISO New England Inc.

Description: Response to Deficiency Notice and Request for Waiver of ISO New England Inc.

Filed Date: 8/9/19.

Accession Number: 20190809-5166.

Comments Due: 5 p.m. ET 8/23/19.

Docket Numbers: ER19-2567-000.

Applicants: FirstEnergy Solutions Corp.

Description: § 205(d) Rate Filing: Amendment to Reactive Service Rate Schedule FERC No. 1 to be effective 12/31/9998.

Filed Date: 8/9/19.

Accession Number: 20190809-5130.

Comments Due: 5 p.m. ET 8/30/19.

Docket Numbers: ER19-2568-000.

Applicants: Pacific Gas and Electric Company.

Description: Application requesting authorization to recover 50 percent of prudently incurred costs associated with abandonment of certain transmission projects of Pacific Gas and Electric Company.

Filed Date: 8/9/19.

Accession Number: 20190809-5178.

Comments Due: 5 p.m. ET 8/30/19.

Docket Numbers: ER19-2569-000.

Applicants: ISO New England Inc.

Description: ISO New England Inc. submits Second Quarter 2019 Capital Budget Report.

Filed Date: 8/12/19.

Accession Number: 20190812-5053.

Comments Due: 5 p.m. ET 9/3/19.

Docket Numbers: ER19-2570-000.

Applicants: PJM Interconnection, L.L.C.

Description: § 205(d) Rate Filing: Amendment to Service Agreement No. 3352, Queue No. W1-029 re: Scope Change to be effective 6/27/2012.

Filed Date: 8/12/19.

Accession Number: 20190812-5070.

Comments Due: 5 p.m. ET 9/3/19.

Docket Numbers: ER19-2571-000.

Applicants: PJM Interconnection, L.L.C.

Description: Tariff Cancellation: Notice of Cancellation of ISA SA No. 4508; Queue No. AA2-145 to be effective 7/19/2019.

Filed Date: 8/12/19.

Accession Number: 20190812-5074.

Comments Due: 5 p.m. ET 9/3/19.

Docket Numbers: ER19-2572-000.

Applicants: The Potomac Edison Company, PJM Interconnection, L.L.C.

Description: § 205(d) Rate Filing: Potomac and West Penn submit Interconnection Agreement, SA No. 5110 to be effective 10/11/2019.

Filed Date: 8/12/19.

Accession Number: 20190812-5084.

Comments Due: 5 p.m. ET 9/3/19.

Docket Numbers: ER19-2573-000.

Applicants: PacifiCorp.

Description: § 205(d) Rate Filing: Exelon NITSA (OR Direct Access) SA 943 to be effective 8/1/2019.

Filed Date: 8/12/19.

Accession Number: 20190812-5099.

Comments Due: 5 p.m. ET 9/3/19.

Docket Numbers: ER19-2574-000.

Applicants: Pacific Gas and Electric Company.

Description: Notice of Termination of a Small Generator Interconnection Service Agreement No. 347 of Pacific Gas and Electric Company.

Filed Date: 8/12/19.

Accession Number: 20190812-5125.

Comments Due: 5 p.m. ET 9/3/19.

Docket Numbers: ER19-2575-000.

Applicants: Techren Solar I LLC.

Description: Baseline eTariff Filing: Filing of Substation and Gen-Tie Agreements and Certificate of Concurrence to be effective 8/13/2019.

Filed Date: 8/12/19.

Accession Number: 20190812-5147.

Comments Due: 5 p.m. ET 9/3/19.

Docket Numbers: ER19-2576-000.

Applicants: PJM Interconnection, L.L.C.

Description: § 205(d) Rate Filing: First Revised ISA, SA No. 4958; Queue No. AD2-166 to be effective 7/15/2019.

Filed Date: 8/12/19.

Accession Number: 20190812-5149.

Comments Due: 5 p.m. ET 9/3/19.

Docket Numbers: ER19-2577-000.

Applicants: Midcontinent Independent System Operator, Inc., ALLETE, Inc.

Description: § 205(d) Rate Filing: 2019-08-12_SA 3338 MP-GRE T-T (Big Rock/Waldo Substation) to be effective 8/7/2019.

Filed Date: 8/12/19.

Accession Number: 20190812-5151.

Comments Due: 5 p.m. ET 9/3/19.

Docket Numbers: ER19-2578-000.

Applicants: Alabama Power Company.

Description: Tariff Cancellation: Georgia SNF Development 1 LGIA Termination Filing to be effective 8/12/2019.

Filed Date: 8/12/19.

Accession Number: 20190812-5160.

Comments Due: 5 p.m. ET 9/3/19.

Take notice that the Commission received the following electric securities filings:

Docket Numbers: ES19-48-000.

Applicants: Tri-State Generation and Transmission.

Description: Application under Section 204 of the Federal Power Act for Authorization to Issue Securities of Tri-State Generation and Transmission Association, Inc.

Filed Date: 8/9/19.

Accession Number: 20190809-5162.

Comments Due: 5 p.m. ET 8/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2019.
Kimberly D. Bose,
Secretary.

[FR Doc. 2019-17729 Filed 8-16-19; 8:45 am]

BILLING CODE 6717-01-P